ENVIRONMENTAL PROTECTION AGENCY

40 CFR Part 52

[EPA-R04-OAR-2020-0103; FRL-10008-44—Region 4]

Air Plan Approval; KY; Jefferson County Existing and New Miscellaneous Metal Parts and Products Surface Coating Operations

AGENCY: Environmental Protection Agency (EPA).

ACTION: Proposed rule.

SUMMARY: The Environmental Protection Agency (EPA) is proposing to approve revisions to the Jefferson County portion of the Kentucky State Implementation Plan (SIP), submitted by the Commonwealth of Kentucky (Commonwealth), through the Energy and Environment Cabinet (Cabinet) on September 5, 2019. The revisions were submitted by the Cabinet on behalf of the Louisville Metro Air Pollution Control District and makes a singular change to two regulations for clarity purposes regarding the applicability of exempt surface coating standards for existing and new miscellaneous metal parts and products operations. EPA is proposing to approve the changes as they are consistent with the Clean Air Act (CAA or Act).

DATES: Comments must be received on or before June 3, 2020.

ADDRESSES: Submit your comments, identified by Docket ID No. EPA-R04-OAR-2020-0103 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Sarah LaRocca, Air Regulatory Management Section, Air Planning and Implementation Branch, Air and Radiation Division, U.S. Environmental Protection Agency, Region 4, 61 Forsyth Street SW, Atlanta, Georgia 30303-8960. The telephone number is (404) 562-8994. Ms. LaRocca can also be reached via electronic mail at larocca.sarah@epa.gov.

SUPPLEMENTARY INFORMATION:

I. Background

EPA is proposing to approve a change to Regulation 6.31, Standard of Performance for Existing Miscellaneous Metal Parts and Products Surface Coating Operations, and Regulation 7.59, Standard of Performance for New Miscellaneous Metal Parts and Products Surface Coating Operations, of the Jefferson County portion of the Kentucky SIP, submitted by the Commonwealth on September 5, 2019. The SIP revisions clarify the applicability of the surface coating standard exemptions as it pertains to Section 3 of Regulations 6.31 and 7.59. The SIP revisions ensure consistency across the regulations and updates the current SIP-approved version of Regulation 6.31 (Version 6) and Regulation 7.59 (Version 6) to Version 7 of each.

EPA has found that surface coatings of miscellaneous metal parts and products operations emit hazardous air pollutants (HAP). See 69 FR 129 (January 2, 2004). Regulation of these sources protects air quality and promotes public health by reducing HAP emissions into the environment. The organic HAP emitted by surface coatings and miscellaneous metal parts and products operations are volatile organic compounds (VOC), as defined by 40 CFR 51.100(s).¹

¹ Specifically, the organic HAP emitted by these operations include xylenes, toluene, methyl ethyl ketone (MEK), phenol, cresols/cresylic acid, glycol ethers (including ethylene glycol monobutyl ether (EGBE)), styrene, methyl isobutyl ketone MIBK), and ethyl benzene. See 69 FR 129. The aforementioned compounds are identified as VOC in 40 CFR 51.100(s)(1).

Tropospheric ozone, commonly known as smog, occurs when VOC and nitrogen oxides (NOX) react in the atmosphere. Because of the harmful health effects of ozone, EPA limits the VOC and NOx emissions that can be released into the atmosphere. VOC are compounds of carbon excluding carbon monoxide, carbon dioxide, and carbonates, and ammonium carbonate, which participate in atmospheric photochemical reactions, including in the formation of ozone. The compounds of carbon (or organic compounds) have different levels of photochemical reactivity; therefore, they do not form ozone to the same extent.

II. EPA's Analysis of the Submittal

Jefferson County Air Quality Regulations 6.31 and 7.59 address VOC emitted by miscellaneous metal parts and products surface coating operations at existing and new facilities, respectively. In this proposed action, EPA is proposing to approve a change to these two regulations. In Paragraph 5.1 of Section 5, Exemptions, of both regulations, clarifying text is being added to ensure consistency with Paragraph 5.2. In the SIP-approved versions of these regulations, Paragraph 5.1 lists the types of surface coatings that are “exempt from this regulation” and Paragraph 5.2 exempts any affected facility from Section 3 (Standards for Volatile Organic Compounds) if the total VOC emissions ² from all affected facilities subject to this regulation are less than or equal to five tons per year. The SIP revisions create consistency between Paragraphs 5.1 and 5.2 by clarifying that the exemption in Paragraph 5.1 applies only to Section 3 (i.e., the phrase “exempt from this regulation” is replaced with “exempt from the standards in Section 3 of this regulation”). These revisions do not change how the regulation operates and solely serves as an update to clarify that the exemption only applies to emissions standards in each regulation, as recordkeeping requirements are still explicitly required.

² Potential emissions prior to any add-on controls.

III. Incorporation by Reference

In this document, EPA is proposing to include in a final EPA rule regulatory text that includes incorporation by reference. In accordance with requirements of 1 CFR 51.5, EPA is proposing to incorporate by reference Louisville Metro Air Pollution Control District Regulation 6.31, Standard of Performance for Existing Miscellaneous Metal Parts and Products Surface Coating Operations, Version 7, and Regulation 7.59, Standard of Performance for New Miscellaneous Metal Parts and Products Surface Coating Operations, Version 7, state effective June 19, 2019. EPA has made, and will continue to make, these materials generally available through www.regulations.gov and at the EPA Region 4 office (please contact the person identified in the “For Further Information Contact” section of this preamble for more information).

IV. Proposed Action

EPA is proposing to approve the change to Regulation 6.31, Standard of Performance for Existing Miscellaneous Metal Parts and Products Surface Coating Operations, and Regulation 7.59, Standard of Performance for New Miscellaneous Metal Parts and Products Surface Coating Operations, of the Jefferson County portion of the Kentucky SIP as submitted on September 5, 2019. This change clarifies the existing regulations' applicability and is consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1955 (Pub. L. 104-4);

• Does not have Federalism implications as specified in the Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the national Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994). The SIP is not approved to apply on any Indian reservation land or any other area where EPA or an Indian tribe has demonstrated that a tribe has jurisdiction. In those areas of Indian country, the rules do not have tribal implications as specified by Executive Order 13175 (65 FR 67249, November 9, 2000), nor will it impose substantial direct costs on tribal governments or preempt tribal law.

List of Subjects in 40 CFR Part 52

Environmental protection, Air pollution control, Incorporation by reference, Intergovernmental relations, Ozone, Particulate matter, Reporting and recordkeeping requirements, Volatile organic compounds.

Authority: 42 U.S.C. 7401 et seq.

Mary Walker,
Regional Administrator, Region 4.

[FR Doc. 2020-08905 Filed 5-1-20; 8:45 am]

BILLING CODE 6560-50-P